DEPARTMENT OF COMMERCE

Submission for OMB Review; Comment Request

The Department of Commerce will submit to the Office of Management and Budget (OMB) for clearance the following proposal for collection of information under the provisions of the Paperwork Reduction Act.

Agency: U.S. Census Bureau.

Title: Quarterly Financial Report.

OMB Control Number: 0607-0432.

Form Number(s): QFR-200(MT), QFR-200(MG), QFR-200(S).

Type of Request: Extension of a currently approved collection.

Number of Respondents: QFR-200(MT)—5,199, QFR-200(MG)—5,493, QFR-200(S)—1,559.

Average Hours Per Response: QFR-200(MT)—3 hours, QFR-200(MG)—1.2 hours, QFR-200(S)—3 hours.

Burden Hours: 107,462.

Needs and Uses: The QFR program has published up-to-date aggregate statistics on the financial results and position of U.S. corporations since 1947. The program currently collects and publishes financial data for the manufacturing, mining, wholesale trade, retail trade, information, and professional, scientific, and technical services (except legal) sectors. The survey is a principal economic indicator that provides financial data essential to calculation of key U.S. government measures of national economic performance. The importance of this data collection is reflected by the granting of specific authority to conduct the program in Title 13 of the United States Code, Section 91, which requires that financial statistics of business operations be collected and published quarterly. Public Law 114-72, Section 2 extended the authority of the Secretary of Commerce to conduct the QFR program through September 30, 2030.

The survey forms used to conduct the QFR are: QFR-200 (MT) Long Form (manufacturing, mining, wholesale trade, and retail trade); QFR-201 (MG) Short Form (manufacturing); and the QFR-300 (S) Long Form (services).

The primary purpose of the QFR is to provide timely, accurate data on business financial conditions for use by government and private-sector organizations and individuals. The primary public users are U.S. governmental statistical agencies such as such as the Bureau of Economic Analysis and the Bureau of Labor Statistics as well as the Federal Reserve Board. In turn, these organizations play a major role in providing guidance, advice, and support to the QFR Program. Universities, financial analysts, U.S. and foreign corporations, financial institution, unions, trade associations, and public libraries are among the diverse range of private sector entities that uses these data.

Affected Public: Business or other for-profit.

Frequency: Quarterly.

Respondent's Obligation: Mandatory.

Legal Authority: Title 13 U.S.C., Section 91.

This information collection request may be viewed at www.reginfo.gov. Follow the instructions to view Department of Commerce collections currently under review by OMB.

Written comments and recommendations for the proposed information collection should be sent within 30 days of publication of this notice to OIRA_Submission@omb.eop.gov or fax to (202)395-5806.

Sheleen Dumas,
Departmental Lead PRA Officer, Office of the Chief Information Officer.

[FR Doc. 2018-15686 Filed 7-20-18; 8:45 am]

BILLING CODE 3510-07-P